DEPARTMENT OF AGRICULTURE

Submission for OMB Review; Comment Request

August 11, 2021.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by September 16, 2021. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Agricultural Marketing Service

Title: Export Inspection and Weighing Waiver for High Quality Specialty Grains Transported in Containers Under the Authority of the United States Grain Standards Act.

OMB Control Number: 0581-0306.

Summary of Collection: The United States Grain Standards Act (USGSA), with few exceptions, requires official certification of export grain sold by grade. The regulations promulgating the USGSA require specific information collection and record-keeping necessary to enforce provisions in the statue. On July 29, 2011, Federal Grain Inspection Service (FGIS) published a final rule in the Federal Register (76 FR 45397) to amend the regulations under the USGSA to make permanent a waiver that expired on July 31, 2012 for high quality specialty grains exported in containers from the mandatory inspection and weighing requirements of the USGSA. To ensure that exporters of high-quality specialty grains comply with this waiver, FGIS is asking exporters to maintain records generated during their normal course of business that pertain to these shipments and make these documents available to the FGIS upon request. FGIS has no other means available to monitor the grain industry's compliance with provisions of this waiver.

Need and Use of the Information: To comply with the waiver of the mandatory inspection and weighing requirement, FGIS is asking exporters of high quality specialty grains transported in containers to maintain records generated during their normal course of business that pertain to these shipments and make these documents available to FGIS upon request. Experience has shown that the U.S. grain industry maintains grain contracts that specify quality parameters agreed to by buyers and sellers of grain. FGIS believes that grain contracts would provide sufficient information to determine if exporters of high-quality specialty grain are complying with the waiver. This information collection requirement is essential for FGIS to enforce provisions set forth in the USGSA. FGIS intends to request copies of the relevant documents annually to ensure compliance with this waiver. FGIS also will require exporters to maintain records for a 3-year period.

Description of Respondents: Business or other for-profit.

Number of Respondents: 40.

Frequency of Responses: Recordkeeping.

Total Burden Hours: 240.

Levi S. Harrell,
Departmental Information Collection Clearance Officer.

[FR Doc. 2021-17548 Filed 8-16-21; 8:45 am]

BILLING CODE 3410-02-P